DEPARTMENT OF THE INTERIOR

Minerals Management Service

Agency Information Collection Activities: Proposed Collection, Comment Request

AGENCY: Minerals Management Service (MMS), Interior.

ACTION: Notice of a revision of a currently approved information collection (OMB Control Number 1010-0120).

SUMMARY: To comply with the Paperwork Reduction Act of 1995 (PRA), we are inviting comments on a collection of information that we will submit to the Office of Management and Budget (OMB) for review and approval. The title of this information collection request (ICR) is “30 CFR Part 206—Product Valuation, Subparts F and J; Part 210—Forms and Reports, Subparts E and H; and Part 218—Collection of Royalties, Rentals, Bonuses and Other Monies Due the Federal Government, Subpart E.” We changed the title of this ICR to clarify the regulatory language we are covering under 30 CFR parts 206, 210, and 218 and to reflect OMB consolidation approval of two solid mineral-related ICRs. Those ICRs were titled:

• 1010-0074: 30 CFR Part 206—Product Valuation, Subpart J—Indian Coal (Forms MMS-4292, Coal Washing Allowance Report, and MMS-4293, Coal Transportation Allowance Report); and

• 1010-0120: 30 CFR Part 206, Subpart F—Federal Coal and Subpart J—Indian Coal; Part 210, Subpart B—Oil, Gas, and OCS Sulfur—General, Subpart E—Solid Minerals, General, Subpart H—Geothermal Resources; Part 218, Subpart B—Oil and Gas, General, Subpart E—Solid Minerals—General (Form MMS-4430, Solid Minerals Production and Royalty Report).

In the two ICRs, much of the general information was repeated and cross referenced. This consolidated ICR 1010-0120 eliminates that duplication of effort and redundancy of data and also provides for review of all solids and geothermal information collection requirements on a MMS Solids and Geothermal Compliance and Asset Management program-wide basis. The current ICR does not expire until October 31, 2007 and has a total of 1,751 burden hours as of OMB Notice of Change dated December 9, 2005, which consolidated the burden hours from ICRs 1010-0074 and 1010-0120.

DATES: Submit written comments on or before May 7, 2007.

ADDRESSES: Submit written comments to Sharron L. Gebhardt, Lead Regulatory Specialist, Minerals Management Service, Minerals Revenue Management, P.O. Box 25165, MS 302B2, Denver, Colorado 80225. If you use an overnight courier service or wish to hand-carry your comments, our courier address is Building 85, Room A-614, Denver Federal Center, West 6th Ave. and Kipling Blvd., Denver, Colorado 80225. You may also e-mail your comments to us at mrm.comments@mms.gov. Include the title of the information collection and the OMB control number in the “Attention” line of your comment. Also include your name and return address. If you do not receive a confirmation that we have received your e-mail, contact Ms. Gebhardt at (303) 231-3211.

FOR FURTHER INFORMATION CONTACT: Sharron L. Gebhardt, telephone (303) 231-3211, FAX (303) 231-3781, or e-mail sharron.gebhardt@mms.gov.

SUPPLEMENTARY INFORMATION: Title: 30 CFR Part 206—Product Valuation, Subparts F and J; Part 210—Forms and Reports, Subparts E and H; and Part 218—Collection of Royalties, Rentals, Bonuses and Other Monies Due the Federal Government, Subpart E.

OMB Control Number: 1010-0120.

Bureau Form Numbers: Forms MMS-4430, MMS-4292, and MMS-4293.

Abstract: The Secretary of the U.S. Department of the Interior is responsible for collecting royalties from lessees who produce minerals from leased Federal and Indian lands. The Secretary is required by various laws to manage mineral resources production on Federal and Indian lands, collect the royalties due, and distribute the funds in accordance with those laws. The Secretary also has a trust responsibility to manage Indian lands and seek advice and information from Indian beneficiaries. The MMS performs the royalty management functions and assists the Secretary in carrying out the Department's trust responsibility for Indian lands.

Minerals produced from Federal and Indian leases vary greatly in the nature of occurrence, production and processing methods, and markets served. Also, lease terms, statutory requirements, and regulations vary significantly among the different minerals.

When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. Such information is similar to data reported to private and public mineral interest owners and is generally available within the records of the lessee or others involved in developing, transporting, processing, purchasing, or selling of such minerals. The information collected includes data necessary to ensure that the royalties are accurately valued and appropriately paid.

Applicable citations of the laws pertaining to mineral leases on Federal and Indian lands include: 25 U.S.C. 2103, Indian Mineral Development Act of 1982; 30 U.S.C. 189, Leases and Prospecting Permits; 30 U.S.C. 359, Lease of Mineral Deposits within Acquired Lands; 25 U.S.C. 396d, Chapter 12—Lease, Sale, or Surrender of Allotted or Unallotted Lands; 30 U.S.C. 1001, 1002, Geothermal Steam and Associated Steam Resources; and 43 U.S.C. 1334, Outer Continental Shelf Lands Act.

Applicable Code of Federal Regulations (CFR) include 30 CFR part 206, subparts F and J; part 210, subparts E and H; and part 218, subpart E. Forms associated with this ICR are Forms MMS-4430, Solid Minerals Production and Royalty Report; MMS-4292, Coal Washing Allowance Report; and MMS-4293, Coal Transportation Allowance Report.

Governing citations require the lessees, operators, or other directly involved persons to accurately submit solid minerals royalty and production data and provide additional reasonable information as defined by the Secretary regarding solid minerals production. This ICR provides for the collection of solid minerals royalty and production information on Form MMS-4430 and on other associated data formats such as associated sales summaries, facility data, sales contracts, payment information, as well as additional documents described below. The current information collection requirements (1) Provide MMS with the ability to verify that revenue due the Federal Government is accurately reported and correctly paid under applicable laws, regulations, and lease terms; and (2) support the fulfillment of our trust, financial and compliance mission requirements. It also provides MMS with the ability to timely disburse mineral revenues to the correct recipients. We encourage electronic submission by way of attachments to e-mail messages from Federal reporters only; however, hard-copy submissions are allowed from both Federal and Indian reporters. \

Specific lease language varies. However, respondents agree by the lease terms to furnish statements providing the details of all solid minerals operations conducted on a Federal or Indian lease and the quantity and quality of all production from the lease at such times and in such form as the Secretary may prescribe.

The MMS, acting for the Secretary, uses all of the collected information to support the Compliance and Asset Management (CAM) and Financial Management (FM) processes, and to assure that royalties reported and paid are based upon correct product valuation. The MMS uses the collected information, as do other Federal Government, state and tribal entities, for audit purposes and to evaluate the reasonableness of product valuation or allowance claims submitted by lessees. Specifically, MMS provides the Bureau of Land Management (BLM) and the Bureau of Indian Affairs (BIA) access to this information, which they use to conduct production verification, ensure lease diligence, and monitor plant efficiencies and inventories for maximum recovery, and secondary products. The determination of the appropriate product value or allowance rate directly affects the royalties due. Failure to collect such data would prevent the Secretary from accomplishing statutory and trust responsibilities.

Form MMS-4430, Solid Minerals Production and Royalty Report—Producers of coal and other solid minerals from Federal and Indian leases electronically file this form monthly. The form contains basic lease-level volume and valuation information. Additionally, the form collects non-Federal production information from mines.

• Contracts and Contract Amendments—Coal and metal producers submit sales contracts, agreements, and contract amendments semi-annually. Sodium, potassium, phosphate, and other solid mineral producers, with leases containing ad valorem royalty terms, submit the required documents only if specifically requested to do so by MMS.

• Sales Summary—The CAM process compares sales summary information from purchasers to Form MMS-4430 and facility data.

• Facility Data—Operators of wash plants and of refining, ore concentration, or other processing facilities for any coal, sodium, potassium, metals, or other solid minerals submit facility data information for months in which they process or carry an inventory.

• Additional Documents or Evidence—The MMS requests detailed statements, documents, or other evidence supporting our CAM responsibilities under Federal and Indian lease terms. Spot sale invoices, weigh tickets, laboratory quality reports, transportation contracts, and service contracts are all examples of additional documents we might request. The information might further define a cost or verify a claim made by the producer.

• Payment Information—The MMS collects payment data to use in the Financial Management process.

Form MMS-4292—Coal Washing Allowance Report and Form MMS-4293—Coal Transportation Allowance Report—This ICR also provides for the collection of coal washing and transportation information for Indian leases. The information collected is essential for the royalty valuation process.

We developed Forms MMS-4292, Coal Washing Allowance Report, and MMS-4293, Coal Transportation Allowance Report, for industry to complete when reporting or requesting a washing or transportation allowance.

Summary—The information we collect under this ICR is essential for the royalty valuation process. Not collecting this information would limit the Secretary's ability to discharge fiduciary duties and may also result in the inability to confirm the accurate royalty value.

Proprietary information submitted to MMS under this collection is protected. No items of a sensitive nature are collected. The requirement to respond is mandatory for Form MMS-4430. A response is required to obtain benefits for Forms MMS-4292 and MMS-4293.

Frequency of Response: On occasion, annually, monthly.

Estimated Number and Description of Respondents: 149 reporters.

Estimated Annual Reporting and Recordkeeping “Hour” Burden: 1,778 hours.

We are revising this ICR to include reporting requirements from part 206 citations that were overlooked in the previous renewal and reporting requirements for ICR 1010-0074 that were added to this information collection. We have not included in our estimates certain requirements performed in the normal course of business and considered usual and customary. The following chart shows the estimated burden hours by CFR section and paragraph:

Respondents' Estimated Annual Burden Hours
Citation 30 CFR | Reporting & recordkeeping requirement | Hour burden | Average No. annual responses | Annual burden hours
Part 206—Product Valuation | Subpart F—Federal Coal
206.253(c) | Coal subject to royalties—general provisions (c) * * * The lessee shall maintain accurate records to determine to which individual Federal lease coal in the waste pit or slurry pond should be allocated * * * | Hour burden covered under § 206.254.
206.254 | Quality and quantity measurement standards for reporting and paying royalties * * * Coal quantity information shall be reported on appropriate forms required under 30 CFR part 216 and on the Solid Minerals Production and Royalty Report, Form MMS-4430, as required under 30 CFR part 210 | .4166 | 816 | 340
206.257(b)(1) | Valuation standards for ad valorem leases (b)(1) * * * The lessee shall have the burden of demonstrating that its contract is arm's-length * * * | AUDIT PROCESS See Note.
206.257(b)(3) | (b)(3) * * * When MMS determines that the value may be unreasonable, MMS will notify the lessee and give the lessee an opportunity to provide written information justifying the lessee's reported coal value | AUDIT PROCESS See Note.
206.257(b)(4) | (b)(4) The MMS may require a lessee to certify that its arm's-length contract provisions include all of the consideration to be paid by the buyer, either directly or indirectly, for the coal production | AUDIT PROCESS See Note.
206.257(d)(1) | (d)(1) Where the value is determined pursuant to paragraph (c) of this section, that value does not require MMS's prior approval. However, the lessee shall retain all data relevant to the determination of royalty value | Hour burden covered under § 206.254.
206.257(d)(2) | (d)(2) Any Federal lessee will make available upon request to the authorized MMS or State representatives, to the Inspector General of the Department of the Interior or other persons authorized to receive such information, arm's-length sales value and sales quantity data for like-quality coal sold, purchased, or otherwise obtained by the lessee from the area | AUDIT PROCESS See Note.
206.257(d)(3) | (d)(3) A lessee shall notify MMS if it has determined value pursuant to paragraphs (c)(2)(ii), (iii), (iv), or (v) of this section * * *. The letter shall identify the valuation method to be used and contain a brief description of the procedure to be followed. The notification required by this section is a one-time notification due no later than the month the lessee first reports royalties on the Form MMS-4430 * * * and each time there is a change * * * | 2 | 1 | 2
206.257(f) | (f) The lessee may request a value determination from MMS. In that event, the lessee shall propose to MMS a value determination method, and may use that method in determining value for royalty purposes until MMS issues its decision. The lessee shall submit all available data relevant to its proposal * * * | 5 | 1 | 5
206.257(i) | (i) * * * Contract revisions or amendments shall be in writing and signed by all parties to an arm's-length contract, and may be retroactively applied to value for royalty purposes for a period not to exceed two years, unless MMS approves a longer period * * * | 2 | 1 | 2
206.259(a)(1) | Determination of washing allowances (a) Arm's-length contracts. (1) * * * The lessee shall have the burden of demonstrating that its contract is arm's-length * * * | AUDIT PROCESS See Note.
206.259(a)(1) | (a)(1) * * * the washing allowance shall be the reasonable actual costs incurred by the lessee for washing the coal * * * | .34 | 12 | 4
206.259(a)(3) | (a)(3) * * * When MMS determines that the value of the washing may be unreasonable, MMS will notify the lessee and give the lessee an opportunity to provide written information justifying the lessee's washing costs | AUDIT PROCESS See Note.
206.259(b)(1) | (b) Non-arm's-length or no contract. (1) * * * the washing allowance will be based upon the lessee's reasonable actual costs * * * | .75 | 48 | 36
206.259(b)(2)(iv) | (b)(2)(iv) A lessee may use either paragraph (b)(2)(iv)(A) or (B) of this section. After a lessee has elected to use either method for a wash plant, the lessee may not later elect to change to the other alternative without approval of the MMS | 1 | 1 | 1
206.259(b)(2)(iv)(A) | (b)(2)(iv)(A) To compute depreciation, the lessee may elect to use either a straight-line depreciation method based on the life of equipment or on the life of the reserves which the wash plant services, whichever is appropriate, or a unit of production method. After an election is made, the lessee may not change methods without MMS approval | 1 | 1 | 1
206.259(c)(1)(i) | (c) Reporting requirements—(1) Arm's-length contracts. (i) The lessee must notify MMS of an allowance based on incurred costs by using a separate line entry on the Form MMS-4430 | Hour burden covered under § 210.201.
206.259(c)(1)(ii) | (c)(1)(ii) The MMS may require that a lessee submit arm's-length washing contracts and related documents * * * | AUDIT PROCESS See Note.
206.259(c)(2)(i) | (c) Reporting requirements—* * * (2) Non-arm's-length or no contract. (i) The lessee must notify MMS of an allowance based on the incurred costs by using a separate line entry on the Form MMS-4430 | Hour burden hours covered under § 210.201.
206.259(c)(2)(iii) | (c)(2) Non-arm's-length or no contract * * * (iii) Upon request by MMS, the lessee shall submit all data used to prepare the allowance deduction* * * | AUDIT PROCESS See Note.
206.259(e)(2) | (e) Adjustments. (2) The lessee must submit a corrected Form MMS-4430 to reflect actual costs, together with any payment, in accordance with instructions provided by MMS | Hour burden covered under § 210.201.
206.262(a)(1) | Determination of transportation allowances (a) Arm's-length contracts. (1) * * * The lessee shall have the burden of demonstrating that its contract is arm's-length* * * | AUDIT PROCESS See Note.
206.262(a)(1) | (a)(1) * * * the transportation allowance shall be the reasonable, actual costs incurred by the lessee for transporting the coal * * * | .34 | 240 | 82
206.262(a)(3) | (a)(3) * * * When MMS determines that the value of the transportation may be unreasonable, MMS will notify the lessee and give the lessee an opportunity to provide written information justifying the lessee's transportation costs | AUDIT PROCESS See Note.
206.262(b)(1) | (b) Non-arm's-length or no contract.—(1) * * * the transportation allowance will be based upon the lessee's reasonable actual costs * * * | .75 | 24 | 18
206.262(b)(2)(iv) | (b)(2)(iv) * * * After a lessee has elected to use either method for a transportation system, the lessee may not later elect to change to the other alternative without approval of the MMS | 1 | 1 | 1
206.262(b)(2)(iv)(A) | (b)(2)(iv)(A) * * * After an election is made, the lessee may not change methods without MMS approval * * * | 1 | 1 | 1
206.262(b)(3) | (b)(3) A lessee may apply to MMS for exception from the requirement that it compute actual costs in accordance with paragraphs (b)(1) and (b)(2) of this section * * * | 1 | 1 | 1
206.262(c)(1)(i) | (c) Reporting requirements—(1) Arm's-length contracts. (i) The lessee must notify MMS of an allowance based on incurred costs by using a separate line entry on the Form MMS-4430 | Hour burden covered under § 210.201.
206.262(c)(1)(ii) | (c)(1)(ii) The MMS may require that a lessee submit arm's-length transportation contracts, production agreements, operating agreements, and related documents * * * | AUDIT PROCESS See Note.
206.262(c)(2)(i) | (c)(2) Non-arm's-length or no contract. (i) The lessee must notify MMS of an allowance based on the incurred costs by using a separate line entry on Form MMS-4430 | Burden hours covered under § 210.201.
206.262(c)(2)(iii) | (c)(2)(iii) Upon request by MMS, the lessee shall submit all data used to prepare the allowance deduction * * * | AUDIT PROCESS See Note.
206.262(e)(2) | (e) Adjustments * * * (2) The lessee must submit a corrected Form MMS-4430 to reflect actual costs, together with any payments, in accordance with instructions provided by MMS | Hour burden covered under § 210.201.
206.264 | In-situ and surface gasification and liquefaction operations If an ad valorem Federal coal lease is developed by in-situ or surface gasification or liquefaction technology, the lessee shall propose the value of coal for royalty purposes to MMS. The MMS will review the lessee's proposal and issue a value determination. The lessee may use its proposed value until MMS issues a value determination | 1 | 1 | 1
206.265 | Value enhancement of marketable coal If, prior to use, sale, or other disposition, the lessee enhances the value of coal after the coal has been placed in marketable condition in accordance with § 206.257(h) of this subpart, the lessee shall notify MMS that such processing is occurring or will occur | 1 | 1 | 1
Subpart J—Indian Coal
206.452(c) | Coal subject to royalties—general provisions (c) * * * The lessee shall maintain accurate records to determine to which individual Indian lease coal in the waste pit or slurry pond should be allocated * * * | Hour burden covered under § 206.453.
206.453 | Quality and quantity measurement standards for reporting and paying royalties * * * Coal quantity information shall be reported on appropriate forms required under 30 CFR part 216 and on the Solid Minerals Production and Royalty Report, Form MMS-4430, as required under 30 CFR part 210 | .42 | 48 | 20
206.456(b)(1) | Valuation standards for ad valorem leases (b)(1) * * * The lessee shall have the burden of demonstrating that its contract is arm's-length * * * | AUDIT PROCESS See Note.
206.456(b)(3) | (b)(3) * * * When MMS determines that the value may be unreasonable, MMS will notify the lessee and give the lessee an opportunity to provide written information justifying the lessee's reported coal value | AUDIT PROCESS See Note.
206.456(b)(4) | (b)(4) MMS may require a lessee to certify that its arm's-length contract provisions include all of the consideration to be paid by the buyer, either directly or indirectly, for the coal production | AUDIT PROCESS See Note.
206.456(d)(1) | (d)(1) Where the value is determined pursuant to paragraph (c) of this section, that value does not require MMS' prior approval. However, the lessee shall retain all data relevant to the determination of royalty value | Hour burden covered under § 206.453.
206.456(d)(2) | (d)(2) An Indian lessee will make available upon request to the authorized MMS or Indian representatives, or to the Inspector General of the Department of the Interior or other persons authorized to receive such information, arm's-length sales and sales quantity data for like-quality coal sold, purchased, or otherwise obtained by the lessee from the area | AUDIT PROCESS See Note.
206.456(d)(3) | (d)(3) A lessee shall notify MMS if it has determined value pursuant to paragraphs (c)(2)(ii), (c)(2)(iii), (c)(2)(iv), or (c)(2)(v) of this section * * *. The letter shall identify the valuation method to be used and contain a brief description of the procedure to be followed | 1 | 1 | 1
206.456(f) | (f) The lessee may request a value determination from MMS. In that event, the lessee shall propose to MMS a value determination method, and may use that method in determining value for royalty purposes until MMS issues its decision. The lessee shall submit all available data relevant to its proposal | 1 | 1 | 1
206.456(i) | (i) * * * Contract revisions or amendments shall be in writing and signed by all parties to an arm's-length contract, and may be retroactively applied to value for royalty purposes for a period not to exceed two years, unless MMS approves a longer period | 1 | 1 | 1
206.458(a)(1) | Determination of washing allowances (a) Arm's-length contracts. (1) * * * the washing allowance shall be the reasonable actual costs incurred by the lessee for washing the coal * * *. However, before any deduction may be taken, the lessee must submit a completed page one of Form MMS-4292, Coal Washing Allowance Report, in accordance with paragraph (c)(1) of this section. A washing allowance may be claimed retroactively for a period of not more than 3 months prior to the first day of the month that Form MMS-4292 is filed with MMS, unless MMS approves a longer period upon a showing of good cause by the lessee | 2 | 1 | 2
206.458(a)(3) | (a)(3) When MMS determines that the value of the washing may be unreasonable, MMS will notify the lessee and give the lessee an opportunity to provide written information justifying the lessee's washing costs | AUDIT PROCESS See Note.
206.458(b)(1) | (b) Non-arm's-length or no contract. (1) * * * the washing allowance will be based upon the lessee's reasonable actual costs * * *. However, before any estimated or actual deduction may be taken, the lessee must submit a completed Form MMS-4292 in accordance with paragraph (c)(2) of this section. A washing allowance may be claimed retroactively for a period of not more than 3 months prior to the first day of the month that Form MMS-4292 is filed with MMS, unless MMS approves a longer period upon a showing of good cause by the lessee * * * | Hour burden covered under § 206.458(a)(1).
206.458(b)(2)(iv) | (b)(2)(iv) * * * After a lessee has elected to use either method for a wash plant, the lessee may not later elect to change to the other alternative without approval of MMS | 1 | 1 | 1
206.458(b)(2)(iv)(A) | (b)(2)(iv)(A) To compute depreciation, the lessee may elect to use either a straight-line depreciation method based on the life of equipment or on the life of the reserves which the wash plant services, whichever is appropriate, or a unit of production method. After an election is made, the lessee may not change methods without MMS approval | 1 | 1 | 1
206.458(c)(1)(i) | (c) Reporting requirements. (1) Arm's-length contracts. (i) With the exception of those washing allowances specified in paragraphs (c)(1)(v) and (c)(1)(vi) of this section, the lessee shall submit page one of the initial Form MMS-4292 prior to, or at the same time, as the washing allowance determined pursuant to an arm's-length contract is reported on Form MMS-4430, Solid Minerals Production and Royalty Report * * * | Hour burden covered under § 206.458(a)(1).
206.458(c)(1)(iii) | (c)(1)(iii) After the initial reporting period and for succeeding reporting periods, lessees must submit page one of Form MMS-4292 within 3 months after the end of the calendar year, or after the applicable contract or rate terminates or is modified or amended, whichever is earlier, unless MMS approves a longer period (during which period the lessee shall continue to use the allowance from the previous reporting period) | Hour burden covered under § 206.458(a)(1).
206.458(c)(1)(iv) | (c)(1)(iv) MMS may require that a lessee submit arm's-length washing contracts and related documents * * * | AUDIT PROCESS See Note.
206.458(c)(2)(i) | (c)(2) Non-arm's-length or no contract. (i) With the exception of those washing allowances specified in paragraphs (c)(2)(v) and (c)(2)(vii) of this section, the lessee shall submit an initial Form MMS-4292 prior to, or at the same time as, the washing allowance determined pursuant to a non-arm's-length contract or no contract situation is reported on Form MMS-4430, Solid Minerals Production and Royalty Report * * * | Hour burden covered under § 206.458(a)(1).
206.458(c)(2)(iii) | (c)(2)(iii) For calendar-year reporting periods succeeding the initial reporting period, the lessee shall submit a completed Form MMS-4292 containing the actual costs for the previous reporting period. If coal washing is continuing, the lessee shall include on Form MMS-4292 its estimated costs for the next calendar year * * *. Form MMS-4292 must be received by MMS within 3 months after the end of the previous reporting period, unless MMS approves a longer period (during which period the lessee shall continue to use the allowance from the previous reporting period) | Hour burden covered under § 206.458(a)(1).
206.458(c)(2)(vi) | (c)(2)(vi) Upon request by MMS, the lessee shall submit all data used by the lessee to prepare its Forms MMS-4292 * * * | AUDIT PROCESS See Note.
206.458(c)(4) | (c)(4) Washing allowances must be reported as a separate line on the Form MMS-4430, unless MMS approves a different reporting procedure | Hour burden covered under § 210.201.
206.458(e)(2) | (e) Adjustments. (2) The lessee must submit a corrected Form MMS-4430 to reflect actual costs, together with any payment, in accordance with instructions provided by MMS | Hour burden covered under § 210.201.
206.461(a)(1) | Determination of transportation allowances (a) Arm's-length contracts. (1) * * * the transportation allowance shall be the reasonable, actual costs incurred by the lessee for transporting the coal * * *. However, before any deduction may be taken, the lessee must submit a completed page one of Form MMS-4293, Coal Transportation Allowance Report, in accordance with paragraph (c)(1) of this section. A transportation allowance may be claimed retroactively for a period of not more than 3 months prior to the first day of the month that Form MMS-4293 is filed with MMS, unless MMS approves a longer period upon a showing of good cause by the lessee | 2 | 1 | 2
206.461(a)(3) | (a) Arm's-length contracts. (3) * * * When MMS determines that the value of the transportation may be unreasonable, MMS will notify the lessee and give the lessee an opportunity to provide written information justifying the lessee's transportation costs | AUDIT PROCESS See Note.
206.461(b)(1) | (b) Non-arm's-length or no contract. (1) * * * the transportation allowance will be based upon the lessee's reasonable actual costs * * *. However, before any estimated or actual deduction may be taken, the lessee must submit a completed Form MMS-4293 in accordance with paragraph (c)(2) of this section. A transportation allowance may be claimed retroactively for a period of not more than 3 months prior to the first day of the month that Form MMS-4293 is filed with MMS, unless MMS approves a longer period upon a showing of good cause by the lessee * * * | Hour burden covered under § 206.461(a)(1).
206.461(b)(2)(iv) | (b)(2)(iv) * * * After a lessee has elected to use either method for a transportation system, the lessee may not later elect to change to the other alternative without approval of MMS | 1 | 1 | 1
206.461(b)(2)(iv)(A) | (b)(2)(iv)(A) To compute depreciation, the lessee may elect to use either a straight-line depreciation method based on the life of equipment or on the life of the reserves which the transportation system services, whichever is appropriate, or a unit of production method. After an election is made, the lessee may not change methods without MMS approval | 1 | 1 | 1
206.461(b)(3) | (b)(3) A lessee may apply to MMS for exception from the requirement that it compute actual costs in accordance with paragraphs (b)(1) and (b)(2) of this section | 1 | 1 | 1
206.461(c)(1)(i) | (c) Reporting requirements. (1) Arm's-length contracts. (i) With the exception of those transportation allowances specified in paragraphs (c)(1)(v) and (c)(1)(vi) of this section, the lessee shall submit page one of the initial Form MMS-4293 prior to, or at the same time as, the transportation allowance determined pursuant to an arm's-length contract is reported on Form MMS-4430, Solid Minerals Production and Royalty Report | Hour burden covered under § 206.461(a)(1).
206.461(c)(1)(iii) | (c)(1)(iii) After the initial reporting period and for succeeding reporting periods, lessees must submit page one of Form MMS-4293 within 3 months after the end of the calendar year, or after the applicable contract or rate terminates or is modified or amended, whichever is earlier, unless MMS approves a longer period (during which period the lessee shall continue to use the allowance from the previous reporting period). Lessees may request special reporting procedures in unique allowance reporting situations, such as those related to spot sales | Hour burden covered under § 206.461(a)(1).
206.461(c)(1)(iv) | (c)(1)(iv) MMS may require that a lessee submit arm's-length transportation contracts, production agreements, operating agreements, and related documents * * * | AUDIT PROCESS See Note.
206.461(c)(2)(i) | (c)(2) Non-arm's-length or no contract. (i) With the exception of those transportation allowances specified in paragraphs (c)(2)(v) and (c)(2)(vii) of this section, the lessee shall submit an initial Form MMS-4293 prior to, or at the same time as, the transportation allowance determined pursuant to a non-arm's-length contract or no contract situation is reported on Form MMS-4430, Solid Minerals Production and Royalty Report * * * | Hour burden covered under § 206.461(a)(1).
206.461(c)(2)(iii) | (c)(2)(iii) For calendar-year reporting periods succeeding the initial reporting period, the lessee shall submit a completed Form MMS-4293 containing the actual costs for the previous reporting period * * *. Form MMS-4293 must be received by MMS within 3 months after the end of the previous reporting period, unless MMS approves a longer period (during which period the lessee shall continue to use the allowance from the previous reporting period) | Hour burden covered under § 206.461(a)(1).
206.461(c)(2)(vi) | (c)(2)(vi) Upon request by MMS, the lessee shall submit all data used to prepare its Form MMS-4293 * * * | AUDIT PROCESS See Note.
206.461(c)(4) | (c)(4) Transportation allowances must be reported as a separate line item on Form MMS-4430, unless MMS approves a different reporting procedure | Hour burden covered under § 210.201.
206.461(e)(2) | (e) Adjustments. (2) The lessee must submit a corrected Form MMS-4430 to reflect actual costs, together with any payment, in accordance with instructions provided by MMS | Hour burden covered under § 210.201.
206.463 | In-situ and surface gasification and liquefaction operations If an ad valorem Federal coal lease is developed by in-situ or surface gasification or liquefaction technology, the lessee shall propose the value of coal for royalty purposes to MMS * * * | 1 | 1 | 1
206.464 | Value enhancement of marketable coal If, prior to use, sale, or other disposition, the lessee enhances the value of coal after the coal has been placed in marketable condition in accordance with § 206.456(h) of this subpart, the lessee shall notify MMS that such processing is occurring or will occur * * * | 1 | 1 | 1
Part 210—Forms and Reports | Subpart E—Solid Minerals, General
210.201(a)(1) | How do I submit Form MMS-4430, Solid Minerals Production and Royalty Report? (a) What to submit. (1) You must submit a completed Form MMS-4430 for * * * | .5 | 1,668 | 834
210.202(a)(1) and (c)(1) | How do I submit sales summaries? (a) What to submit. (1) You must submit sales summaries for all coal and other solid minerals produced from Federal and Indian leases and for any remote storage site from which you sell Federal or Indian solid minerals * * * (c) How to submit. (1) You should provide the sales summary data via electronic mail where possible. We will provide instructions and the proper e-mail address for these submissions * * * | .25 | 1,140 | 285
210.203(a) | How do I submit sales contracts? (a) What to submit. You must submit sales contracts, agreements, and contract amendments for the sale of all coal and other solid minerals produced from Federal and Indian leases with ad valorem royalty terms * * * | 1 | 30 | 30
210.204(a)(1) | How do I submit facility data? (a) What to submit. (1) You must submit facility data if you operate a wash plant, refining, ore concentration, or other processing facility for any coal, sodium, potassium, metals, or other solid minerals produced from Federal or Indian leases with ad valorem royalty terms * * * | .25 | 360 | 90
210.205 | Will I need to submit additional documents or evidence to MMS? (a) Federal and Indian lease terms allow us to request detailed statements, documents, or other evidence necessary to verify compliance * * * (b) We will request this additional information as we need it * * * | AUDIT PROCESS See Note.
Subpart H—Geothermal Resources
210.351 | Required recordkeeping * * * [Geothermal] Records may be maintained on microfilm, microfiche, or other recorded media that are easily reproducible and readable * * * | Hour burden covered under OMB 1010-0140.
210.352 | Payor information forms [geothermal] The Payor Information Form (Form MMS-4025) must be filed for each Federal lease on which geothermal royalties (including byproduct royalties) are paid * * * | This form is no longer used by MMS. The CFR is currently under revision to eliminate this citation.
210.353 | Special forms and reports [geothermal] The MMS may require submission of additional information on special forms or reports* * * | 1 | 1 | 1
210.354 | Monthly report of sales and royalty A completed Report of Sales and Royalty Remittance (Form MMS-2014) must be submitted each month once sales or utilization of [geothermal] production occur, * * * | Hour burden covered by OMB Control Number 1010-0140.
Part 218—Collection of Royalties, Rentals, Bonuses and Other Monies Due the Federal Government
Subpart E—Solid Minerals—General
218.201(b) | Method of payment You must tender all payments * * * except as follows: * * * (b) For Form MMS-4430 payments, include both your customer identification and your customer document identification numbers on your payment document * * * | .0055 | 1,368 | 8
Total Burden | 5,777 | 1,778
Note: AUDIT PROCESS—The Office of Regulatory Affairs determined that the audit process is exempt from the Paperwork Reduction Act of 1995 because MMS staff asks non-standard questions to resolve exceptions.

Estimated Annual Reporting and Recordkeeping “Non-hour Cost” Burden: We have identified no “non-hour cost” burden associated with the collection of information.

Public Disclosure Statement: The PRA (44 U.S.C. 3501 et seq.) provides that an agency may not conduct or sponsor, and a person is not required to respond to, a collection of information unless it displays a currently valid OMB control number.

Comments: Before submitting an ICR to OMB, PRA Section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, and testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request. The ICR also will be posted on our Web site at http://www.mrm.mms.gov/Laws_R_D/FRNotices/FRInfColl.htm.

Public Comment Policy: We will post all comments in response to this notice on our Web site at http://www.mrm.mms.gov/Laws_R_D/FRNotices/FRInfColl.htm. We also will make copies of the comments available for public review, including names and addresses of respondents, during regular business hours at our offices in Lakewood, Colorado. Upon request, we will withhold an individual respondent's home address from the public record, as allowable by law. There also may be circumstances in which we would withhold a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: February 13, 2007.
Steven D. Textoris,
Acting Associate Director for Minerals Revenue Management.

[FR Doc. E7-3737 Filed 3-6-07; 8:45 am]

BILLING CODE 4310-MR-P